DEPARTMENT OF ENERGY

Federal Energy Regulatory Commission

[Docket No. ER07-547-000]

ISO New England, Inc.; Notice of Filing

February 20, 2007.

Take notice that on February 15, 2007, ISO New England, Inc. (ISO-NE) filed a package of revisions to its Market Rules to implement the Forward Capacity Market (FCM) Settlement Agreement approved by the Commission in Devon Power LLC, 115 FERC ¶ 61,340, order on reh'g, 117 FERC ¶ 61,133 (2006).

In the portion of this filing docketed as Docket No. ER07-547-000, ISO-NE is filing the following tariff provisions relating to the FCM:

• Changes to the Tariff's Financial Assurance Policies and Billing Policy (effective date requested: June 1, 2007)

• All of the remaining changes to Market Rule 1 proposed in ISO-NE's February 15, 2007 filing that will not be addressed in Docket No. ER07-546-000 (effective date requested: June 15, 2007)

The remainder of the proposed tariff provisions filed by ISO-NE have been docketed as Docket No. ER07-546-000.

Comments, protests and motions to intervene or notices of intervention in Docket No. ER07-547-000 will be due on or before March 15, 2007.

Parties interested only in the matters to be considered in Docket No. ER07-546-000 should seek to intervene and/or protest only in that docket. Parties interested only in the matters to be considered in Docket No. ER07-547-000 should seek to intervene and/or protest only in that docket. Parties interested in the matters to be considered in both dockets should file separate motions to intervene or notices of intervention and/or protests in each docket.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 15, 2007.

Magalie R. Salas,
Secretary.

[FR Doc. E7-3223 Filed 2-23-07; 8:45 am]

BILLING CODE 6717-01-P